DEPARTMENT OF AGRICULTURE

Forest Service

Centennial Salvage Timber Sale, Caribou-Targhee National Forest, Fremont and Clark Counties, ID

AGENCY: Forest Service, USDA.

ACTION: Revision of the Notice of Intent to prepare an Environmental Impact Statement for Centennial Salvage Timber Sale, as published in the Federal Register pages 54627 to 54629 on September 9, 2004 (Volume 69, Number 174). This revision includes a change in the purpose and need for action and the proposed action.

SUMMARY: The USDA, Forest Service is preparing an Environmental Impact Statement to document the analysis and disclose the environmental impacts of the proposed Centennial Salvage Timber Sale project. This revised Notice of Intent is to document the changes in the process.

Based on initial internal and external scoping this project has been identified to qualify under Title I of the HFRA (Healthy Forest Restoration Act) Section 102(a)4 due to the existence of a insect epidemic that poses a significant threat to ecosystem components and forest resource values. The purpose of this project has been updated to: Reduce the susceptibility and risk of forested vegetation to Douglas-fir beetle and western spruce budworm, reduce hazardous fuels, and capture economic value from dead and dying trees.

In the original NOI the proposed action proposed to use prescribed fire on 718 acres to remove encroaching shade tolerant conifers and stimulate natural regeneration of whitebark pine and aspen. This has been removed from the proposed action. All other aspects of the original proposed action have remained the same.

DATES: If you have provided comments to this project then you do not need to resubmit your comments. Your comments have been included in the project record. If you have further comments described in this revised NOI or any additional comments please submit your comments by December 13, 2004. An open house informational meeting for this project will be held on December 8, 2004, from 7 p.m. to 9 p.m. at the Ashton Ranger District, 46 Highway 20, Ashton, Idaho. A slide presentation will be given from 7:15 p.m. to 7:30 p.m. describing the project area and proposal.

ADDRESSES: Send written comments to Centennial Salvage Timber Sale, c/o Tom Silvey, Ashton/Island Park Ranger District, P.O. Box 858, Ashton, Idaho 83420. Comments can also be electronically mailed (in Microsoft Word or .rtf format) to: comments-intermtn-caribou-targhee-ashton-islandpark@fs.fed.us.

FOR FURTHER INFORMATION CONTACT: Tom Silvey, Interdisciplinary Team Leader, Ashton/Island Park Ranger District, P.O. Box 858, Ashton, Idaho 83420. Telephone: (208) 652-7442.

Dated: November 18, 2004.
Wes Stumbo,
Acting Forest Supervisor.

[FR Doc. 04-26468 Filed 11-30-04; 8:45 am]

BILLING CODE 3410-11-M